DEPARTMENT OF ENERGY

Federal Energy Regulatory Commission

Combined Notice of Filings #2

Take notice that the Commission received the following electric rate filings:

Docket Numbers: ER16-1546-001.

Applicants: Southwest Power Pool, Inc.

Description: Tariff Amendment: Deficiency Response in ER16-1546—Arkansas Electric Coop. Corp. Formula Rate to be effective 7/1/2016.

Filed Date: 7/21/16.

Accession Number: 20160721-5088.

Comments Due: 5 p.m. ET 8/11/16.

Docket Numbers: ER16-2261-000.

Applicants: The Connecticut Light and Power Company.

Description: Section 205(d) Rate Filing: PSEG Power CT Engineering Design Siting-Original Service Agreement No. IA-ES-35 to be effective 7/5/2016.

Filed Date: 7/21/16.

Accession Number: 20160721-5068.

Comments Due: 5 p.m. ET 8/11/16.

Docket Numbers: ER16-2262-000.

Applicants: Public Service Company of Colorado.

Description: Section 205(d) Rate Filing: PSCo CSU CO&M JF SS Agrmt 395 0.0.0 to be effective 9/20/2016.

Filed Date: 7/21/16.

Accession Number: 20160721-5075.

Comments Due: 5 p.m. ET 8/11/16.

Docket Numbers: ER16-2263-000.

Applicants: Telysium Energy Marketing, LLC.

Description: Baseline eTariff Filing: Telysium Energy Marketing, LLC Market-Based Rate Tariff to be effective 7/30/2016.

Filed Date: 7/21/16.

Accession Number: 20160721-5087.

Comments Due: 5 p.m. ET 8/11/16.

Docket Numbers: ER16-2264-000.

Applicants: Tampa Electric Company.

Description: Compliance filing: Compliance Filing Under Order 827 to be effective 9/21/2016.

Filed Date: 7/21/16.

Accession Number: 20160721-5090.

Comments Due: 5 p.m. ET 8/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2016.
Nathaniel J. Davis, Sr.,
Deputy Secretary.

[FR Doc. 2016-17835 Filed 7-27-16; 8:45 am]

BILLING CODE 6717-01-P